INTERNATIONAL TRADE COMMISSION

[Investigation No. 337-TA-1112]

Certain Radio Frequency Micro-Needle Dermatological Treatment Devices and Components Thereof; Institution of Investigation

AGENCY: U.S. International Trade Commission.

ACTION: Notice.

SUMMARY: Notice is hereby given that a complaint was filed with the U.S. International Trade Commission on April 9, 2018, under section 337 of the Tariff Act of 1930, as amended, on behalf of Syneron Medical Ltd. of Israel; Candela Corporation of Wayland, Massachusetts; and Massachusetts General Hospital of Boston, Massachusetts. A supplement was filed on April 27, 2018. The complaint, as supplemented, alleges violations of section 337 based upon the importation into the United States, the sale for importation, and the sale within the United States after importation of certain radio frequency micro-needle dermatological treatment devices and components thereof by reason of infringement of certain claims of U.S. Patent No. 9,510,899 (“the '899 patent”) and U.S. Patent No. 9,095,357 (“the '357 patent”). The complaint further alleges that an industry in the United States exists as required by the applicable Federal Statute.

The complainants request that the Commission institute an investigation and, after the investigation, issue a limited exclusion order and cease and desist orders.

ADDRESSES: The complaint, as supplemented, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, Office of the Secretary, Docket Services Division, U.S. International Trade Commission, telephone (202) 205-1802.

SUPPLEMENTARY INFORMATION:

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on May 9, 2018, Ordered that—

(1) Pursuant to subsection (b) of section 337 of the Tariff Act of 1930, as amended, an investigation be instituted to determine whether there is a violation of subsection (a)(1)(B) of section 337 in the importation into the United States, the sale for importation, or the sale within the United States after importation of certain radio frequency micro-needle dermatological treatment devices and components thereof by reason of infringement of one or more of claims 1, 2, 4, 9-11, 15, 20, and 21 of the '899 patent and claims 1, 2, 4, 9-12, 17, and 18 of the '357 patent, and whether an industry in the United States exists as required by subsection (a)(2) of section 337;

(2) For the purpose of the investigation so instituted, the following are hereby named as parties upon which this notice of investigation shall be served:

(a) The complainants are:

Syneron Medical Ltd., Tavor Building, Industrial Zone, Yokneam lllit, 20692, Israel

Candela Corporation, 530 Boston Post Road, Wayland, MA 01778

General Hospital Corporation d/b/a, Massachusetts General Hospital, 55 Fruit Street, Boston, MA 02114

(b) The respondents are the following entities alleged to be in violation of section 337, and are the parties upon which the complaint is to be served:

Invasix, Inc., 21084 Bake Parkway, Suite 106, Lake Forest, CA 92618

Invasix, Ltd., Apolo Building, Shaar Yokneam, Yokneam, 20692, Israel

Inmode Md, Ltd., 20996 Bake Parkway, Suite 106, Lake Forest, CA 92630

Ilooda Co., Ltd., 37-1 Imok-dong, Imok-dong, Jangan-gu, Suwon-si, Gyeonggi-do, Republic of Korea

Cutera, Inc., 3240 Bayshore Boulevard, Brisbane, CA 94005

Emvera Technologies, LLC, 641 10th Street, Cedartown, GA 30125

Rohrer Aesthetics, LLC, 105 Citation Court, Homewood, AL 35209

Lutronic, Corp., Lutronic Center, 219 Sowon-ro, Deogyang-gu, Goyang-si, Geonggi-do, Republic of Korea

Lutronic, Inc., 19 Fortune Drive, Billerica, MA 01821

Endymed Medical Inc., 790 Madison Avenue, Suite 402, New York, NY 10065

Endymed Medical Ltd., 12 Leshem Street, North Industrial Park, Caesarea, 30889 Israel

Sung Hwan E&B Co., Ltd. d/b/a SHEnB Co., Ltd., 148 Seongsui-Ro, Soengdong-Gu, Seoul 04796, Republic of Korea

Aesthetics Biomedical, Inc., 4602 N 16th Street, Suite 300, Phoenix, AZ 85016

Cartessa Aesthetics, 210 Peoples Way, Hockessin, DE 19707-1904

Jeisys Medical, Inc., 307 Daeryung Techno Town 8th, Gamasan-ro 96, Geumcheon-Gu, Seoul, 153-775, Republic of Korea

Perigee Medical LLC, 2227 N Macarthur Dr., Tracy, CA 95376-2830

Lumenis Ltd., Yokneam Industrial Park, Hakidma 6, Yokneam 2069204, Israel

Pollogen Ltd., 6 Kaufman Yehezkel, Tel Aviv-Jaffa, 6801298, Israel

(3) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 9, 2018.
Lisa Barton,
Secretary to the Commission.

[FR Doc. 2018-10240 Filed 5-14-18; 8:45 am]

BILLING CODE 7020-02-P